ENVIRONMENTAL PROTECTION AGENCY

40 CFR Part 62

[CA-035-MSWb; FRL-7058-6]

Approval and Promulgation of State Plans for Designated Facilities and Pollutants: California

AGENCY: Environmental Protection Agency (EPA).

ACTION: Proposed rule.

SUMMARY: EPA is proposing to approve a revision to the California State Plan for implementing the emissions guidelines applicable to existing municipal solid waste landfills. The revision to the State Plan was submitted by the California Air Resources Board for the State of California to satisfy requirements of section 111(d) of the Federal Clean Air Act. In the Final Rules section of this Federal Register, EPA is approving the revision as a direct final rule without prior proposal because the Agency views this as a noncontroversial action and anticipates that it will not receive any significant, material, and adverse comments. A detailed rationale for the approval is set forth in the direct final rule. If no significant, material, and adverse comments are received in response to this action, no further activity is contemplated in relation to this proposed rule. If EPA receives relevant adverse comments, the direct final rule will be withdrawn and all public comments received will be addressed in a subsequent final rule based on this proposed rule. EPA will not institute a second comment period on this action.

DATES: Comments must be received in writing by October 22, 2001.

ADDRESSES: Written comments should be addressed to Andrew Steckel, Rulemaking Office (AIR-4), Air Division, U.S. Environmental Protection Agency, Region IX, 75 Hawthorne Street, San Francisco, CA 94105-3901. Copies of the documents relevant to this proposed rule are available for public inspection at EPA's Region IX office during normal business hours. Copies of the submitted revision to the State Plan are also available for inspection at the following location: California Air Resources Board, Stationary Source Division, Rule Evaluation Section, 1001 “I” Street, Sacramento, CA 95814.

FOR FURTHER INFORMATION CONTACT: Mae Wang, Air Division (AIR-4), U.S. Environmental Protection Agency, Region IX, 75 Hawthorne Street, San Francisco, CA 94105-3901, Telephone: (415) 744-1200.

SUPPLEMENTARY INFORMATION: This document concerns the approval of a revision submitted by the California Air Resources Board on December 20, 2000, to the State of California's Section 111(d) Plan for Existing Municipal Solid Waste Landfills. For further information, please see the information provided in the direct final action which is located in the Rules section of this Federal Register.

Dated: August 8, 2001.
Jane Diamond,
Acting Regional Administrator, Region IX.

[FR Doc. 01-23480 Filed 9-19-01; 8:45 am]

BILLING CODE 6560-50-P